DEPARTMENT OF HEALTH AND HUMAN SERVICES

Administration for Children and Families

Statement of Organization, Functions, and Delegations of Authority

This notice amends Part K of the Statement of Organization, Functions, and Delegations of Authority of the Department of Health and Human Services (DHHS), Administration for Children and Families (ACF) as follows: Chapter KB, the Administration on Children, Youth and Families (ACYF) (67 FR 4453), as last amended January 30, 2002; Chapter KF, the Office of Child Support Enforcement (OCSE) (66 FR 13934), as last amended March 8, 2001; and Chapter KP, the Office of the Deputy Assistant Secretary for Administration (ODASA) (66 FR 52627), as last amended, October 16, 2001. This notice reflects the realignment of the discretionary, formula, entitlement and block grant functions within ACF.

These Chapters are amended as follows:

I. Chapter KB, Administration on Children, Youth and Families

A. Delete KB.10 Organization in its entirety and replace with the following:

KB.10 Organization. The Administration on Children, Youth and Families is headed by a Commissioner, who reports directly to the Assistant Secretary for Children and Families and consists of:

Office of the Commissioner (KBA)

Office of Management Services (KBA1)

Head Start Bureau (KBC)

Program Operations Division (KBC1)

Program Support Division (KBC2)

Program Management Division (KBC3)

Children's Bureau (KBD)

Office of Child Abuse and Neglect (KBD1)

Division of Policy (KBD2)

Division of Program Implementation (KBD3)

Division of Data, Research and Innovation (KBD4)

Division of Child Welfare Capacity Building (KBD5)

Division of State Systems (KBD6)

Family and Youth Services Bureau (KBE)

Child Care Bureau (KBG)

Immediate Office/Administration (KBG1)

Program Operations Division (KBG2)

Policy Division (KBG3)

Technical Assistance Division (KBG4)

Delete KB.20 Functions, Paragraph A, in its entirety and replace with the following:

KB.20 Functions. A. The Office of the Commissioner serves as principal advisor to the Assistant Secretary for Children and Families, the Secretary, and other officials of the Department on the sound development of children, youth, and families. It provides executive direction and management strategy to ACYF components. The Deputy Commissioner assists the Commissioner in carrying out the responsibilities of the Office. In addition to the Immediate Office, the Office of the Commissioner contains the Office of Management Services. In support of the Commissioner and Deputy Commissioner and in consultation with ACYF programs the:

Office of Management Services manages the formulation and execution of the budgets for ACYF programs and for federal administration; serves as the central control point for operational and long range planning; functions as Executive Secretariat for ACYF; including managing correspondence, correspondence systems, and electronic mail requests; reviews and manages clearance for program announcements for ACYF, the Administration for Native Americans (ANA), and the Administration on Developmental Disabilities (ADD); plans for/coordinates the provision of staff development and training; provides support for ACYF's personnel administration, including staffing, employee and labor relations, performance management and employee recognition; manages procurement planning and provides technical assistance regarding procurement; plans for/oversees the discretionary grant paneling process; manages ACYF-controlled space and facilities; performs manpower planning and administration; plans for, acquires, distributes and controls ACYF supplies; provides mail and messenger services; maintains duplicating, fax, and computer computer peripheral equipment; supports and manages automation within ACYF; provides for health and safety; and oversees travel, time and attendance, and other administrative functions for ACYF.

II. Chapter KF, Office of Child Support Enforcement

A. Delete KF.10 Organization in its entirety and replace with the following:

KF.10 Organization. The Office of Child Support Enforcement is headed by a Director and consists of:

Office of the Director/Deputy Director/Commissioner (KFA)

Office of Audit (KFAA)

Office of the Deputy Commissioner (KFB)

Office of Automation and Program Operations (KFB1)

Division of Federal Systems (KFB11)

Division of State and Tribal Systems (KFB12)

Division of Management Services (KFB2)

Division of Consumer Services (KFB3)

Division of Planning, Research, and Evaluation (KFB4)

Division of Policy (KFB5)

Division of Special Staffs (KFB6)

Division of State, Tribal and Local Assistance (KFB7)

B. Delete KF.20 Functions. Paragraph KFA, in its entirety and replace with the following:

KF.20 Functions. KFA. The Office of the Director and Deputy Director/Commissioner. The Director is also the Assistant Secretary for Children and Families and is directly responsible to the Secretary for carrying out OCSE's mission. The Deputy Director/Commissioner has day-to-day operational responsibility for Child Support Enforcement programs. The Deputy Director/Commissioner assists the Director in carrying out responsibilities of the Office and provides direction and leadership to the Office of the Deputy Commissioner, the Office of Automation and Program Operations, and the Office of Audit.

The Office is responsible for developing regulations, guidance and standards for States/Tribes to observe in locating absent parents; establishing paternity and support obligations and enforcing support obligations; maintaining relationships with Department officials, other federal departments, State and tribal and local officials, and private organizations and individuals interested in the CSE program; coordinating and planning child support enforcement activities to maximize program effectiveness; outreach to the communities of faith and service, as well as access/visitation programs and advocacy interests and approving all instructions, policies and publications issued by OCSE staff. The Office is responsible for Child Support Enforcement financial analysis and strategy development; internal OCSE compliance operations; and the management of large-scale or high profile assistance activities involving multiple OCSE areas of responsibility.

C. Delete KF.20 Functions, Paragraph KFB2 Division of Management Services, in its entirety and replace with the following:

KFB2. The Division of Management Services manages the formulation and execution of the budgets for OCSE operated programs and for federal administration of the CSE program; serves as the central control point for operational and long-range planning of the needs of the OCSE; plans for and coordinates the provision of staff development and training; provides support for OCSE's personnel administration, including staffing, employee and labor relations, performance management, and employee recognition; manages procurement planning and provides technical assistance regarding procurement; manages OCSE-controlled space and facilities; performs manpower planning and administration; plans for, acquires, distributes, and controls OCSE supplies; provides mail and messenger services; maintains duplicating, fax, computer and computer peripheral equipment; supports and manages automation acquisition within OCSE; provides for health and safety; and overseas travel. In addition, the Division reviews and manages clearance of Federal Register Notices and program announcements for OCSE, the Office of Refugee Resettlement, the Office of Community Services, and the Office of Research and Evaluation.

D. Delete KF.20 Functions, Paragraph KFAB Office of Grants Management, in its entirety.

E. Delete KF.20 Functions, Paragraph KFAC Office of Mandatory Grants, in its entirety.

III. Chapter KP, Office of the Deputy Assistant Secretary for Administration

A. Delete KP.10 Organization in its entirety and replace with the following: KP.10 Organization. The Office of the Deputy Assistant Secretary for Administration is headed by the Deputy Assistant Secretary who reports to the Assistant Secretary for Children and Families. The Office is organized as follows:

Office of the Deputy Assistant Secretary for Administration (KPA)

Office of Information Services (KPB)

Office of Financial Services (KPC)

Office of Organizational Development Services (KPD)

Office of Customer Service and Administration (KPE)

Office of Grants Management (KPG)

Equal Employment Opportunity and Civil Rights Staff (KPH)

Office of Administrative Services and Facilities Management (KPL)

B. Amend KP.20 Functions to add the following new paragraph:

G. The Office of Grants Management is headed by a Director who reports to the Deputy Assistant Secretary for Administration and provides management and technical administration of ACF discretionary, formula, entitlement and block grants; assures that all grants awarded by ACF conform with applicable statutes, regulations, and policies; computes grantee allocations, prepares grant awards, ensures incorporation of necessary grant terms and conditions, and monitors grantee expenditures; analyzes financial needs under grant programs; provides data in support of apportionment requests; prepares reports and analyses on the grantee's use of funds; maintains liaison and coordination with appropriate ACF and HHS organizations to ensure consistency between ACF grant systems and the Department's grant payment systems; and provides technical assistance to ACF program and regional components on grant operations and technical grants management issues; and performs audit resolution activities for ACF grant programs. The Office serves as the lead for ACF in coordination and liaison with the Department and other federal agencies on grants management.

Dated: February 19, 2002.
Wade F. Horn,
Assistant Secretary for Children and Families.

[FR Doc. 02-4545 Filed 2-25-02; 8:45 am]

BILLING CODE 4184-01-M